ENVIRONMENTAL PROTECTION AGENCY

[ER-FRL-8584-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080206, ERP No. D-COE-K39112-CA, Middle Harbor Redevelopment Project, Proposal to Increase Container Terminal Efficiency to Accommodate a Portion of the Predicted Future Containerized Cargo, Section 10 and 404 Permits, Port of Long Beach, Los Angeles County, CA.

Summary: EPA expressed environmental concerns about unavoidable impacts to air quality, environmental justice communities, aquatic and biological resources. EPA recommended commitments to meet air emission reductions, coordination with the environmental justice community to identify additional measures to offset health impacts, avoidance of fill, and development of a port-wide vessel whale strike avoidance program. Rating EC2.

EIS No. 20080230, ERP No. D-COE-K39113-CA, Natomas Levee Improvement Project, Issuing of 408 Permission and 404 Permit, Sacramento Area Flood Control Agency, Sutter and Sacramento, CA.

Summary: EPA expressed environmental concerns about the proposal's compliance with the Clean Water Act Section 404(b)(1) Guidelines and potential impacts to wetlands. EPA also expressed environmental concerns about potential impacts to air quality, as well as the indirect and cumulative impacts of residential development associated with the levee improvement project and the residual flood risk to residential developments in the floodplain. EPA recommended that additional information be provided in the Final EIS regarding compliance with the Section 404(b)(1) Guidelines, floodplain management efforts in the area, and how the project and future development would be consistent with the Natomas Basin Habitat Conservation Plan Rating EC2.

EIS No. 20080241, ERP No. D-USN-D11044-00, Virginia Capes (VACAPES) Range Complex, Proposed action is to Support and Conduct Current and Emerging Training and RDT & E Operations, Chesapeake Bay, DE, MD, VA, and NC.

Summary: EPA expressed environmental concerns about impacts to the Lower Chesapeake Bay, water quality, marine mammals/threatened and endangered species, historic resources, effects from hazardous materials, and cumulative impacts. Additional information was requested to better assess the impacts. Rating EC2.

Final EISs

EIS No. 20080247, ERP No. F-NCP-D61060-DC, Smithsonian Institution National Museum of African American History and Culture, Construction and Operation, Between 14th and 15th Streets NW., and Constitution Avenue, NW., and Madison Drive, NW., Washington, DC.

Summary: EPA's previous issues have been resolved; therefore, EPA does not object to the proposed action.

Dated: August 19, 2008.
Robert W. Hargrove,
Director, NEPA Compliance Division, Office of Federal Activities.

[FR Doc. E8-19517 Filed 8-21-08; 8:45 am]

BILLING CODE 6560-50-P